FEDERAL LABOR RELATIONS AUTHORITY

Membership of the Federal Labor Relations Authority's Senior Executive Service Performance Review Board.

AGENCY: Federal Labor Relations Authority.

ACTION: Notice.

SUMMARY: Notice is hereby given of the members of the Performance Review Board.

DATES: September 15, 2008.

FOR FURTHER INFORMATION CONTACT: Catherine V. Emerson, Acting Executive Director, Federal Labor Relations Authority (FLRA); 1400 K Street, NW., Washington, DC 20424-0001; (202) 218-7945.

SUPPLEMENTARY INFORMATION: Section 4314(c) of Title 5, U.S.C. (as amended by the Civil Service Reform Act of 1978) requires each agency to establish, in accordance with regulations prescribed by the Office of Personnel Management, one or more Performance Review Boards (PRB). Section 4314(c)(4) requires that notice of appointment of the PRB be published in the Federal Register.

As required by 5 CFR 430.310, the following executives have been appointed to serve on the 2008-2009 PRB for the FLRA, beginning September 2008 through September 2009:

Marcia Eugenio, Director, Office of Child Labor, Forced Labor & Human Trafficking, Bureau of International Labor Affairs, Department of Labor;

Bill Spencer, Clerk of the Board, Merit Systems Protection Board;

Rosa Koppel, Solicitor, Federal Labor Relations Authority;

Catherine Emerson, Acting Executive Director, Federal Labor Relations Authority.

Authority: 5 U.S.C. 4134(c)(4).

Dated: September 9, 2008.
Catherine V. Emerson,
Acting Executive Director.

[FR Doc. E8-21437 Filed 9-12-08; 8:45 am]

BILLING CODE 6727-01-P